DEPARTMENT OF THE INTERIOR

Fish and Wildlife Service

50 CFR Part 32

Hunting and Fishing

CFR Correction

In Title 50 of the Code of Federal Regulations, Parts 18 to 199, revised as of October 1, 2006, in §32.31, on page 247, under the heading “Minidoka National Wildlife Refuge,” paragraph D is revised to read as follows:

§ 32.31 Idaho.

* * * * *

Minidoka National Wildlife Refuge

* * * * *

D. Sport Fishing. We allow fishing on the refuge in accordance with State regulations and subject to the following conditions:

1. We allow bank fishing year-round. We only allow vehicle access (see § 27.31 of this chapter) to shoreline fishing areas on designated routes.

2. We allow ice fishing in accordance with State regulations. We prohibit motor vehicles (see § 27.31 of this chapter) on the ice.

3. We restrict boat fishing to designated areas as specified below:

i. On Lake Walcott, we allow boats from April 1 through September 30 within the area marked by buoys and posted signs.

ii. On Gifford Springs, we allow boats within the area marked by posted signs during the open sport fishing season.

iii. On Smith Springs, we allow boats within the area marked by posted signs during the open sport fishing season.

4. We allow use of float tubes at all times and locations except south of the southern buoy line on Lake Walcott.

[FR Doc. 07-55512 Filed 9-25-07; 8:45 am]

BILLING CODE 1505-01-D